INTERNATIONAL TRADE COMMISSION

[Investigation No. 337-TA-1417]

Certain Hydrodermabrasion Systems and Components Thereof III; Notice of a Commission Determination To Issue a Limited Exclusion Order and Cease and Desist Orders; Termination of Investigation

AGENCY: U.S. International Trade Commission.

ACTION: Notice.

SUMMARY: Notice is hereby given that the U.S. International Trade Commission (“Commission”) has determined to issue a limited exclusion order (“LEO”) barring entry of certain hydrodermabrasion systems and components thereof by or on behalf of respondents Medical Purchasing Resource, LLC, Bio-Infusions USA Inc., MIRAmedtech UG, eMIRAmed USA, LLC, and MIRAmedtech SP. Z.O.O. (collectively, “Defaulting Respondents”); and cease and desist orders (“CDOs”) against the Defaulting Respondents. The investigation is terminated.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 13, 2024, based on a complaint, as supplemented, filed by HydraFacial LLC f/k/a Edge Systems LLC of Long Beach, California (“HydraFacial”). 89 FR 74995-96 (September 13, 2024). The complaint, as supplemented, alleges violations of section 337 of the Tariff Act of 1930, as amended, 19 U.S.C. 1337 (“section 337”), based upon the importation into the United States, the sale for importation, and the sale within the United States after importation of certain hydrodermabrasion systems and components thereof by reason of the infringement of certain claims of U.S. Patent No. 11,446,477 (“the '477 patent”). Id. The complaint also asserts that a domestic industry exists.

The Commission's notice of investigation names as respondents: Luvo Medical Technologies Inc. of Ontario, Canada; Clarion Medical Technologies, Inc. of Ontario, Canada; Healthcare Markets, Inc. d/b/a Powered by MRP of Park City, Utah; Medical Purchasing Resource, LLC of Little Elm, Texas; Bio-Infusions USA Inc. of Seminole, Florida; MIRAmedtech UG of Neulingen, Germany; eMIRAmed USA, LLC of Irvine, California; and MIRAmedtech SP. Z.O.O. of Warsaw, Poland. Id. The Office of Unfair Import Investigations is not participating in this investigation. Id.

On January 2, 2025, the Commission found respondent Medical Purchasing Resource, LLC in default. Order No. 7 (Dec. 9, 2024), unreviewed by Comm'n Notice (Jan. 2, 2025).

On February 6, 2025, the Commission found respondents Bio-Infusions USA Inc., MIRAmedtech UG, eMIRAmed USA, LLC, and MIRAmedtech SP. Z.O.O. in default. Order No. 13 (Jan. 17, 2025), unreviewed by Comm'n Notice (Feb. 6, 2025).

On April 10, 2025, HydraFacial filed a declaration under Commission Rule 210.16(c)(1) (19 CFR 210.16(c)(1)) (“Declaration”) requesting immediate entry of an LEO and CDOs against the Defaulting Respondents. HydraFacial also requested a bond in the amount of 100 percent of the entered value of the infringing articles imported during the period of Presidential review.

On April 24, 2025, the Commission issued a notice terminating the investigation as to the remaining active respondents, Clarion Medical Technologies, Inc., Luvo Medical Technologies, Inc., and Healthcare Markets, Inc. d/b/a Powered by MRP based on settlement agreements. Order No. 16 (April 4, 2025), unreviewed by Comm'n Notice, 90 FR 17259-61 (April 24, 2025) (“the Remedy Notice”). In the same notice, the Commission asked parties to the investigation, interested government agencies, and any other interested parties to file written submissions on the issues of remedy, the public interest, and bonding. Id.

On May 6, 2025, HydraFacial filed a written submission requesting the Commission to issue an LEO and CDOs against the Defaulting Respondents, and providing information requested by the Remedy Notice. The Commission received no other written submissions in response to the Remedy Notice.

When the conditions in section 337(g)(1)(A)-(E) (19 U.S.C. 1337(g)(1)(A)-(E)) have been satisfied, section 337(g)(1) and Commission Rule 210.16(c) (19 CFR 210.16(c)) direct the Commission, upon request, to issue a limited exclusion order or a cease and desist order or both against a respondent found in default, based on the allegations regarding a violation of section 337 in the complaint, which are presumed to be true, unless after consideration of the public interest factors in section 337(g)(1), it finds that such relief should not issue.

Having examined the record of this investigation, including HydraFacial's Declaration and its submission in response to the Remedy Notice, the Commission has determined, pursuant to section 337(g)(1) (19 U.S.C. 1337(g)(1)), that the appropriate remedy in this investigation is: (1) an LEO prohibiting the unlicensed entry of certain hydrodermabrasion systems and components thereof by reason of infringement of certain claims of the '477 patent by the Defaulting Respondents and (2) CDOs directed to the Defaulting Respondents. The Commission has determined that the public interest factors enumerated in subsection 337(g)(1) do not preclude the issuance of the LEO and CDOs. The Commission has further determined that the bond during the period of Presidential review pursuant to section 337(j) (19 U.S.C. 1337(j)) shall be in the amount of one hundred percent (100%) of the entered value of the imported articles that are subject to the LEO.

The investigation is terminated.

The Commission vote for this determination took place on May 27, 2025.

The authority for the Commission's determination is contained in section 337 of the Tariff Act of 1930, as amended (19 U.S.C. 1337), and in part 210 of the Commission's Rules of Practice and Procedure (19 CFR part 210).

By order of the Commission.
Issued: May 27, 2025.
Lisa Barton,
Secretary to the Commission.

[FR Doc. 2025-09860 Filed 5-30-25; 8:45 am]

BILLING CODE 7020-02-P